DEPARTMENT OF DEFENSE

Office of the Secretary

Defense Health Board (DHB) Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, DoD announces that the Defense Health Board (DHB or Board) will meet on March 1-2, 2010, to address and deliberate pending and new Board issues and provide briefings for Board members on topics related to ongoing Board business.

DATES: The meetings will be held on March 1 from 7 a.m. to 5 p.m. and on March 2 from 7 a.m. to 2 p.m.

The meeting is open to the public on March 1 from 9:15 a.m. to 12:30 p.m. and from 1:45 p.m. to 5 p.m.

The Board will hold closed Administrative Working Meetings on March 1 from 9:15 a.m. to 12:30 p.m. and from 1:45 p.m. to 5 p.m. and on March 2 from 7 a.m. to 2 p.m.

ADDRESSES: The meeting will be held at the Doubletree Hotel Cocoa Beach, 2080 North Atlantic Avenue, Cocoa Beach, Florida 32931.

Written statements may be mailed to the address under FOR FURTHER INFORMATION CONTACT, e-mailed to dhb@ha.osd.mil or faxed to (703) 681-3317.

FOR FURTHER INFORMATION CONTACT: Commander Edmond F. Feeks, Executive Secretary, Defense Health Board, Five Skyline Place, 5111 Leesburg Pike, Suite 810, Falls Church, Virginia 22041-3206, (703) 681-8448, EXT. 1228, Fax: (703) 681-3317, edmond.feeks@tma.osd.mil.

SUPPLEMENTARY INFORMATION:

Agenda

On March 1, 2010, the DHB will receive briefings on military health needs and priorities. The following Defense Health Board Subcommittees will present updates to the Board: National Capital Region Base Realignment and Closure, Department of Defense Task Force on the Prevention of Suicide by Members of the Armed Forces, Military/Occupational Health and Medical Surveillance, and the Psychological Health External Advisory Subcommittee. Additionally, the Board will receive a brief regarding Electronic Medical Records. The Board will also vote on new battlefield burn care guidelines in the Tactical Combat Casualty Care Curriculum.

Pursuant to 5 U.S.C. 552b, as amended, and 41 CFR 102-3.140 through 102-3.165 and subject availability of space, the Defense Health Board meeting from 9:15 a.m. to 12:30 p.m. and from 1:45 p.m. to 5 p.m. on March 1 is open to the public.

The Board will conduct administrative sessions in concert with the meeting on March 1, 2010, and on March 2, 2010 (see DATES). Pursuant to 41 CFR 102-3.160, the administrative working meetings are closed to the public.

Additional information, agenda updates, and meeting registration are available online at the Defense Health Board Web site, http://www.ha.osd.mil/dhb. The public is encouraged to register for the meeting.

Written Statements

Any member of the public wishing to provide input to the Defense Health Board should submit a written statement in accordance with 41 CFR 102-3.140(c) and section 10(a)(3) of the Federal Advisory Committee Act, and the procedures described in this notice. Written statement should be no longer than two type-written pages and must address the following detail: The issue, discussion, and a recommended course of action. Supporting documentation may also be included as needed to establish the appropriate historical context and to provide any necessary background information.

Individuals desiring to submit a written statement may do so through the Board's Designated Federal Officer (see ADDRESSES). If the written statement is not received at least 10 calendar days prior to the meeting, which is subject to this notice, then it may not be provided to or considered by the Defense Health Board until the next open meeting.

The Designated Federal Officer will review all timely submissions with the Defense Health Board Chairperson, and ensure they are provided to members of the Defense Health Board before the meeting that is subject to this notice. After reviewing the written comments, the Chairperson and the Designated Federal Officer may choose to invite the submitter of the comments to orally present their issue during an open portion of this meeting or at a future meeting.

The Designated Federal Officer, in consultation with the Defense Health Board Chairperson, may, if desired, allot a specific amount of time for members of the public to present their issues for review and discussion by the Defense Health Board.

Special Accommodations

If special accommodations are required to attend (sign language, wheelchair accessibility) please contact Ms. Lisa Jarrett at (703) 681-8448 EXT. 1280 by February 22, 2010.

Dated: January 28, 2010.
Mitchell S. Bryman,
Alternate OSD Federal Register Liaison Officer, Department of Defense.

[FR Doc. 2010-2164 Filed 2-1-10; 8:45 am]

BILLING CODE 5001-06-P